DEPARTMENT OF HEALTH AND HUMAN SERVICES

Food and Drug Administration

[Docket No. 03N-0077]

FDA Modernization Act of 1997; Modifications to the List of Recognized Standards, Recognition List Number: 008; Correction

AGENCY: Food and Drug Administration, HHS.

ACTION: Notice; correction.

SUMMARY: The Food and Drug Administration (FDA) is correcting a notice that appeared in the Federal Register of April 28, 2003 (68 FR 22391). The document announced a publication entitled “FDA Modernization Act of 1997; Modifications to the List of Recognized Standards, Recognition List Number; 008.” The publication contains modifications the agency is making to the list of standards FDA recognizes for use in the premarket reviews. The document published with an inadvertent error. This document corrects that error.

DATES: May 9, 2003.

FOR FURTHER INFORMATION CONTACT: Joyce Strong, Office of Policy and Planning (HF-27), Food and Drug Administration, 5600 Fishers Lane, Rockville, MD 20857, 301-827-7010.

SUPPLEMENTARY INFORMATION: In FR Doc. 03-10417, appearing on page 22397 in the Federal Register of Monday, April 28, 2003, the following correction is made:

On page 22397, the section heading “IV. Listing of New Entries” is corrected to read “III. Listing of New Entries.”

Dated: May 2, 2003.
Jeffrey Shuren,
Assistant Commissioner for Policy.

[FR Doc. 03-11498 Filed 5-8-03; 8:45 am]

BILLING CODE 4160-01-S